DEPARTMENT OF DEFENSE

Department of the Army; Corps of Engineers

Availability of the Proposed Report of the Chief of Engineers and the Final Joint Environmental Impact Statement/Environmental Impact Report Within the City of San Clemente Extending 3,412 ft (1,040 m) From Linda Lane to T Street

AGENCY: Department of the Army. U.S. Army Corps of Engineers, DoD.

ACTION: Notice of availability.

SUMMARY: This announces the availability of the Proposed Report of the Chief of Engineers and the Final Joint Environmental Impact Statement/Environmental Impact Report (FEIS/R) which analyzes the potential environmental effects associated with the proposed action and alternatives for providing shoreline protection to approximately 3,412 feet ([ft], 1,040 meters [m]) of the San Clemente shoreline from coastal storms. Maintaining the beach is needed to prevent the beach erosion that results from winter storms and to prevent damage to adjacent commuter and national defense rail line that runs along the beach through the City. In addition, the loss of sand at the beach would have an impact on City beachfront structures and beach recreation, which contributes to the local economy, and would reduce the ecological functioning of the sand beach/littoral zone.

FOR FURTHER INFORMATION CONTACT: Andrea E. Walker, CECW-PC-3H21, Headquarters, U.S. Army Corps of Engineers, 441 G Street, NW., Washington, DC 20314.

SUPPLEMENTARY INFORMATION: 1. Without-Project Conditions and Damages. Prior to urban development in the 1990s, the beaches within the study area remained relatively stable because of a balanced sediment supply delivered from the San Juan Creek to the Oceanside littoral cell. However, documented historical beach widths above the Mean Sea Level (MSL) line between T Street and Mariposa Point were as narrow as 82 ft (25 m) in the winter months during this time period. As a consequence, storm damages occurred in the past (e.g. 1964, 1983, 1988 and 1993), as the protective buffer beach width was narrow, particularly in the winter season.

Since the 1990s, the project area has experienced chronic, mild, long-term erosion. Shoreline retreat is a result of the decrease of fluvial sand supply resulting from the concreting of creeks and rivers, upstream dams, and urban development. Continued future shoreline retreat is expected to result in storm waves breaking directly upon the railroad ballast, which significantly threatens the operation of the rail corridor. Continued future shoreline retreat also will subject public facilities to storm wave-induced damages. These facilities, maintained by the City of San Clemente, include the Marine Safety Building, public restroom facilities located on the beach, and lifeguard stations. If no action is taken, public properties and structures are expected to be susceptible to damages caused by erosion (including land loss and undermining of structures), inundation (structures), and wave attack (structures, railroad).

2. Railroad Damages. The Los Angeles to San Diego (LOSSAN) railroad line, separating the active coastline from the coastal bluff and adjacent backshore development, has experienced railway traffic service delays as a result of the narrowing shorelines. These delays occur when storm wave run-up exceeds the elevation of the Southern California Regional Railroad Authority (SCRRA) protective revetments or the crest of the railroad ballast in the without-revetment segments. Two service disruption incidents of approximately 24 hours occurred in the 1960s and 1970's at Mariposa Point (north of the Pier) and at a location south of the Pier, respectively. In response, the SCRRA and Orange County Transportation Authority have constructed un-engineered riprap revetment in areas where the railroad ballast and tracks are vulnerable to storm wave-induced damages. Over the past ten years, storm wave attack in the study area has restricted train services periodically and during the 1998 El Nino, the protective revetment structure sustained severe damage that significantly slowed train speeds. The railroad line is used to service various national defense facilities between Los Angeles and San Diego.

3. Coastal Storm Damages. Public beach facilities located have experienced damages from storms, as the existing beach has historically acted as a buffer against storm wave attack but has been narrowed. These facilities include the Marine Safety Building, public restroom facilities located on the back beach, lifeguard stations, parking areas, and paving near the Pier. The 1983 El Nino storm season resulted in an estimated damage of $3,277,000 to public beach facilities in the study area. If no action is taken, the City of San Clemente's properties and structures will be susceptible to future damages caused by erosion (including loss of land and of properties), inundation, and wave attack. The majority of the National Economic Development (NED) damages/costs are related to LOSSAN railroad protection/construction and O&M costs. On an annual basis, the LOSSAN costs are $1,280,000 and the annualized value of all damage is $1,424,000.

4. Internet. The FEIS is also available for review on the following Web sites: Corps of Engineers, Los Angeles District Internet site: http://www.spl.usace.army.mil/cms/index.php. City of San Clemente's Web site is: http://san-clemente.org/sc/News.aspx?PageID=1.

5. The Record of Decision (ROD) will be issued no sooner than 30 days after publication of the notice of availability in the Federal Register by the U.S. Environmental Protection Agency.

Brenda S. Bowen,
Army Federal Register Liaison Officer.

[FR Doc. 2011-22386 Filed 8-31-11; 8:45 am]

BILLING CODE 3720-58-P